DEPARTMENT OF COMMERCE

National Oceanic and Atmospheric Administration

[RTID 0648-XB870]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside fishery regulations in support of research conducted by the applicant. Regulations under the Magnuson-Stevens Fishery Conservation and Management Act and the Atlantic Coastal Fisheries Cooperative Management Act require publication of this notification to provide interested parties the opportunity to comment on applications for proposed Exempted Fishing Permits.

DATES: Comments must be received on or before March 28, 2022.

ADDRESSES: You may submit written comments by the following method:

• Email: nmfs.gar.efp@noaa.gov. Include in the subject line “AOLA Early Benthic-Phase Lobster Trap EFP.”

FOR FURTHER INFORMATION CONTACT: Laura Deighan, Fishery Management Specialist, Laura.Deighan@noaa.gov, (978) 281-9184.

SUPPLEMENTARY INFORMATION: The Atlantic Offshore Lobstermen's Association submitted a complete application for an Exempted Fishing Permit (EFP) to conduct commercial fishing activities that the regulations would otherwise restrict to pilot test a single early benthic-phase (EBP) lobster trap, which targets lobsters between 15- and 50-millimeter carapace length, to determine its feasibility for broader use in lobster surveys. This EFP would exempt the participating vessel from the Federal regulations described in Table 1.

Table 1—Requested Exemptions
Citation | Regulation | Need for exemption
50 CFR 697.21(c) and § 697.21(d) | Gear specification requirements | To allow for the use a modified trap with no escape vents or ghost panels.
§ 697.19 | Trap limit requirements | To allow for one additional trap.
§ 697.19(j) | Trap tag requirements | To allow for the use of an untagged trap.
§§ 697.20(a)(7), 697.20(a)(8), 697.20(b)(5), 697.20(b)(6), 697.20(d), and 697.20(g) | Possession restrictions | To allow for onboard biological sampling of undersized, oversized, v-notched, and egg-bearing lobsters.
§ 697.21(a) | Gear identification and marking requirements | To allow for the use of an unmarked trap.

This project would use one federally permitted lobster vessel to pilot test the use of an EBP lobster trap in Lobster Management Area 3 (Statistical Areas 561, 562, and 522) between May 1, 2022, and November 1, 2022. The EBP trap is an 80-centimeter square trap based on a modified crawfish trap. It has four square openings, measuring less than two inches, which lead to ramps that drop the lobsters into a baited kitchen. Inside the trap, there are additional ramps that lead the lobsters to four cylindrical parlors with vertical openings. The trap is attached to cement runners that provide weight and maintain proper orientation.

The participants would place the EBP trap on one of their existing trawls and haul it every 7-14 days during the course of the vessel's normal fishing activity. At each haul, the participants would record and immediately release all bycatch and measure, sex, and release all lobsters from the EBP trap. The project would include no more than 26 experimental hauls. In addition to the EBP trap, the vessel would fish with its full allotted number of standard traps, but the total number of traps would remain less than the Area 3 trap cap. Participants would land and sell the legal catch from the standard traps.

The goal of this project is to test the selectivity of the EBP trap (versus ventless traps that often catch eel and crab) and the scalability of its use. If successful, EBP traps could be used in lobster surveys to provide information about larval settlement patterns and juvenile nursery grounds.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 7, 2022.
Ngagne Jafnar Gueye,
Acting Director, Office of Sustainable Fisheries, National Marine Fisheries Service.

[FR Doc. 2022-05118 Filed 3-10-22; 8:45 am]

BILLING CODE 3510-22-P